NATIONAL AERONAUTICS AND SPACE ADMINISTRATION

[Notice 20-046]

Aerospace Safety Advisory Panel; Meeting

AGENCY: National Aeronautics and Space Administration (NASA).

ACTION: Notice of meeting.

SUMMARY: In accordance with the Federal Advisory Committee Act, the National Aeronautics and Space Administration announces a forthcoming meeting of the Aerospace Safety Advisory Panel.

DATES: Friday, May 15, 2020, 3:00 p.m. to 3:45 p.m., Eastern Time.

ADDRESSES: Virtual meeting by teleconference only.

FOR FURTHER INFORMATION CONTACT: Ms. Lisa M. Hackley, Administrative Officer, Aerospace Safety Advisory Panel, NASA Headquarters, Washington, DC 20546, (202) 358-1947 or lisa.m.hackley@nasa.gov.

SUPPLEMENTARY INFORMATION: The Aerospace Safety Advisory Panel (ASAP) will hold Part 2 of its Second Quarterly Meeting for 2020. This discussion is pursuant to carrying out its statutory duties for which the Panel reviews, identifies, evaluates, and advises on those program activities, systems, procedures, and management activities that can contribute to program risk. Priority is given to those programs that involve the safety of human flight. The agenda will include:

—Updates on the Commercial Crew Program

—Updates on Human Lunar Exploration Program.

This meeting is a virtual meeting, and only available telephonically. The meeting will be open to the public. Any interested person may call the USA toll free conference call number 800-988-9661; passcode 5009142 and then the # sign. At the beginning of the meeting, members of the public may make a verbal presentation to the Panel on the subject of safety in NASA, not to exceed 5 minutes in length. To do so, members of the public must contact Ms. Lisa M. Hackley at lisa.m.hackley@nasa.gov or at (202) 358-1947 at least 48 hours in advance. Any member of the public is permitted to file a written statement with the Panel at the time of the meeting. Verbal presentations and written comments should be limited to the subject of safety in NASA. It is imperative that the meeting be held on this date to accommodate the scheduling priorities of the key participants.

Patricia Rausch,
Advisory Committee Management Officer, National Aeronautics and Space Administration.

[FR Doc. 2020-09233 Filed 4-29-20; 8:45 am]

BILLING CODE 7510-13-P